DEPARTMENT OF ENERGY

Federal Energy Regulatory Commission

[Project No. 137-221]

Pacific Gas and Electric Company; Notice of Intent To Prepare an Environmental Assessment

On November 15, 2023, the Pacific Gas and Electric Company (licensee) filed an application for a non-capacity amendment at the Tiger Creek regulator dam of the Mokelumne River Hydroelectric Project No. 137. The dam is located on Tiger Creek in Amador County, California.

The licensee proposes to construct a new 240-foot-long, 40-foot-wide concrete spillway and plunge pool at the right abutment of the Tiger Creek regulator dam. As part of the proposal, the licensee would construct a spoil area, and a temporary and permanent access road at the dam site which would be closed to the public during construction. The licensee also intends to develop a staging and spoils area on Doakes Ridge approximately 0.7 miles southwest of the dam site and place a staging area and concrete batch plant on state route 88 in Pioneer, California. State route 88 and Tiger Creek Road between Pioneer and the dam site would be used as a haul route. The existing spillway would be abandoned in place. The licensee expects construction to take approximately 2 years.

On July 26, 2024, the Commission issued a public notice for the proposed amendment. On August 2, August 5, and August 20, 2024, the California Department of Fish and Wildlife, the California State Water Resources Control Board, and the U.S. Department of the Interior filed notices of intervention, respectively.

This notice identifies Commission staff's intention to prepare an environmental assessment (EA) for the project.¹ The planned schedule for the completion of the EA is June 18, 2025. Revisions to the schedule may be made as appropriate. The EA will be issued and made available for review by all interested parties during a 30-day public comment period. All comments filed on the EA will be reviewed by staff and considered in the Commission's final decision on the proceeding.

¹ In accordance with the Council on Environmental Quality's regulations, the unique identification number for documents relating to this environmental review is EAXX-019-20-000-1729247760. 40 CFR 1501.5(c)(4) (2024).

The Commission's Office of Public Participation (OPP) supports meaningful public engagement and participation in Commission proceedings. OPP can help members of the public, including landowners, environmental justice communities, Tribal members, and others to access publicly available information and navigate Commission processes. For public inquiries and assistance with making filings such as interventions, comments, or requests for rehearing, the public is encouraged to contact OPP at (202)502-6595 or OPP@ferc.gov.

Any questions regarding this notice may be directed to Steven Sachs at 202-502-8666 or Steven.Sachs@ferc.gov.

Dated: October 22, 2024.
Debbie-Anne A. Reese,
Secretary.

[FR Doc. 2024-24997 Filed 10-25-24; 8:45 am]

BILLING CODE 6717-01-P